DEPARTMENT OF DEFENSE

Defense Acquisition Regulations System

[Docket No. DARS-2022-0010; OMB 0704-0574]

Information Collection Requirement; Defense Federal Acquisition Regulation Supplement; DFARS Part 215, Only One Offer and Related Clauses in DFARS 252; Submission for OMB Review; Comment Request

AGENCY: Defense Acquisition Regulation System, Department of Defense (DoD).

ACTION: Notice.

SUMMARY: The Defense Acquisition Regulations System has submitted to OMB for clearance the following proposal for collection of information under the provisions of the Paperwork Reduction Act.

DATES: Consideration will be given to all comments received by August 18, 2022.

Title, Associated Forms, and OMB Number: Defense Federal Acquisition Regulation Supplement (DFARS) Part 215; Only One Offer and Related Clauses at 252.215; OMB Control Number 0704-0574.

Type of Request: Extension of a currently approved collection.

Number of Respondents: 2,691.

Responses per Respondent: 1.33, approximately.

Annual Responses: 3,593.

Average Burden per Response: 37.7 hours, approximately.

Annual Burden Hours: 135,330.

Affected Public: Businesses or other for-profit and not-for-profit institutions.

Frequency: On occasion.

Respondent's Obligation: Required to obtain or maintain benefits.

Needs and Uses: This information collection pertains to information that an offeror must submit to DoD if only one offer was received in response to a competitive solicitation, and the contracting officer must request certified cost or pricing data because of the revised standard for adequate price competition that is applicable to DoD. The Government requires this information in order to determine whether an offered price is fair and reasonable and to meet the statutory requirement for certified cost or pricing data. The contracting officer obtains this information through use of DFARS solicitation provisions 252.215-7008, Only One Offer; and DFARS 252.215-7010, Requirements for Certified Cost or Pricing Data and Data Other Than Certified Cost or Pricing Data. These provisions implement 10 U.S.C. 2306a.

Comments and recommendations on the proposed information collection should be sent to Ms. Susan Minson, DoD Desk Officer, at Oira_submission@omb.eop.gov. Please identify the proposed information collection by DoD Desk Officer and the Docket ID number and title of the information collection.

You may also submit comments, identified by docket number and title, by the following method: Federal eRulemaking Portal: https://www.regulations.gov. Follow the instructions for submitting comments.

DoD Clearance Officer: Ms. Angela Duncan. Requests for copies of the information collection proposal should be sent to Ms. Duncan at whs.mc-alex.esd.mbx.dd-dod-information-collections@mail.mil.

Jennifer D. Johnson,
Editor/Publisher, Defense Acquisition Regulations System.

[FR Doc. 2022-15347 Filed 7-18-22; 8:45 am]

BILLING CODE 5001-06-P